DEPARTMENT OF LABOR

Employment and Training Administration

[TA-W-61,795]

Convergys Information Management Group, Wilkes-Barre, PA; Notice of Termination of Investigation

Pursuant to Section 221 of the Trade Act of 1974, as amended, an investigation was initiated on July 7, 2007 in response to a worker petition filed on behalf of workers at Convergys Information Management Group, Wilkes-Barre, Pennsylvania.

The petitioning group of workers is covered by an earlier petition (TA-W-61,765) filed on June 29, 2007 that is the subject of an ongoing investigation for which a determination has not yet been issued. Further investigation in this case would duplicate efforts and serve no purpose; therefore the investigation under this petition has been terminated.

Signed at Washington, DC, this 12th day of July 2007.
Richard Church,
Certifying Officer, Division of Trade Adjustment Assistance.

[FR Doc. E7-14226 Filed 7-23-07; 8:45 am]

BILLING CODE 4510-FN-P